SMALL BUSINESS ADMINISTRATION

[Disaster Declaration #20956 and #20957; ALASKA Disaster Number AK-20011]

Presidential Declaration of a Major Disaster for Public Assistance Only for the Native Village of Kwigillingok

AGENCY: U.S. Small Business Administration.

ACTION: Notice.

SUMMARY: This is a Notice of the Presidential declaration of a major disaster for Public Assistance Only for the Native Village of Kwigillingok (FEMA-4857-DR), dated January 10, 2025.

Incident: Severe Storm and Flooding.

DATES: Issued on January 10, 2025.

Incident Period: August 15, 2024 through August 18, 2024.

Physical Loan Application Deadline Date: March 11, 2025.

Economic Injury (EIDL) Loan Application Deadline Date: October 10, 2025.

ADDRESSES: Visit the MySBA Loan Portal at https://lending.sba.gov to apply for a disaster assistance loan.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the President's major disaster declaration on January 10, 2025, Private Non-Profit organizations that provide essential services of a governmental nature may file disaster loan applications online using the MySBA Loan Portal https://lending.sba.gov or other locally announced locations. Please contact the SBA disaster assistance customer service center by email at disastercustomerservice@sba.gov or by phone at 1-800-659-2955 for further assistance.

The following areas have been determined to be adversely affected by the disaster:

Primary area: Native Village of Kwigillingok.

The Interest Rates are:

| Percent
For Physical Damage:
Non-Profit Organizations with Credit Available Elsewhere | 3.250
Non-Profit Organizations without Credit Available Elsewhere | 3.250
For Economic Injury:
Non-Profit Organizations without Credit Available Elsewhere | 3.250

The number assigned to this disaster for physical damage is 209566 and for economic injury is 209570.

(Catalog of Federal Domestic Assistance Number 59008)

Rafaela Monchek,
Deputy Associate Administrator, Office of Disaster Recovery & Resilience.

[FR Doc. 2025-01345 Filed 1-17-25; 8:45 am]

BILLING CODE 8026-09-P